NUCLEAR REGULATORY COMMISSION

[Docket No. 52-043; ASLBP No. 15-943-01-ESP-BD01]

PSEG Power, LLC and PSEG Nuclear, LLC; Establishment of Atomic Safety and Licensing Board

Pursuant to delegation by the Commission, see 37 FR 28,710 (Dec. 29, 1972), and the Commission's regulations, see, e.g., 10 CFR 2.104, 2.105, 2.300, 2.309, 2.313, 2.318, and 2.321, notice is hereby given that an Atomic Safety and Licensing Board (Board) is being established to preside over the following proceeding:

PSEG Power, LLC and PSEG Nuclear, LLC (Early Site Permit Application)

This Board is being established pursuant to a Notice of Hearing and Opportunity to Petition for Leave to Intervene regarding the May 25, 2010 application filed by PSEG Power, LLC and PSEG, Nuclear, LLC (applicants) pursuant to Subpart A of 10 CFR part 52 for an early site permit for the PSEG site to be located in Salem County, New Jersey. See 75 FR 68,624, 68,625 (Nov. 8, 2010). No petition for leave to intervene was received in response to the notice in the Federal Register. Because the applicants seek an early site permit, a mandatory hearing is required. See Atomic Energy Act of 1954, section 189a., 42 U.S.C. 2239(a).

The Board is comprised of the following administrative judges:

Paul S. Ryerson, Chairman, Atomic Safety and Licensing Board Panel, U.S. Nuclear Regulatory Commission, Washington, DC 20555-0001.

Dr. Gary S. Arnold, Atomic Safety and Licensing Board Panel, U.S. Nuclear Regulatory Commission, Washington, DC 20555-0001.

Dr. Craig M. White, Atomic Safety and Licensing Board Panel, U.S. Nuclear Regulatory Commission, Washington, DC 20555-0001.

All correspondence, documents, and other materials shall be filed in accordance with the NRC E-Filing rule. See 10 CFR 2.302.

Rockville, Maryland.
Dated: September 25, 2015.
E. Roy Hawkens,
Chief Administrative Judge, Atomic Safety and Licensing Board Panel.

[FR Doc. 2015-24793 Filed 9-29-15; 8:45 am]

BILLING CODE 7590-01-P